NUCLEAR REGULATORY COMMISSION

Sunshine Act Meeting

DATES: Weeks of July 12, 19, 26; August 2, 9, 16, 2004.

PLACE: Commissioners' Conference Room, 11555 Rockville Pike, Rockville, Maryland.

STATUS: Public and Closed.

MATTERS TO BE CONSIDERED:

Week of July 12, 2004

Tuesday, July 13, 2004

2:15 p.m.—Discussion of Security Issues (closed—ex. 1).

Wednesday, July 14, 2004

1:15 p.m.—Affirmation Session (Public Meeting). (If needed.)

Thursday, July 15, 2004

11:30 a.m.—Discussion of Security Issues (closed—ex. 1).

Week of July 19, 2004—Tentative

Wednesday, July 21, 2004

9:30 a.m.—Meeting with Advisory Committee on Nuclear Waste (ACNW) (Public Meeting). (Contact: John Larkins (301) 415-7360.)

This meeting will be webcast live at the Web address www.nrc.gov.

Week of July 26, 2004—Tentative

There are no meetings scheduled for the Week of July 26, 2004.

Week of August 2, 2004—Tentative

There are no meetings scheduled for the Week of August 2, 2004.

Week of August 9, 2004—Tentative

There are no meetings scheduled for the Week of August 9, 2004.

Week of August 16, 2004—Tentative

Wednesday, August 18, 2004

9:30 a.m.—Discussion of Security Issued (closed—ex. 1).

*The schedule for Commission meetings is subject to change on short notice. To verify the status of meetings call (recording)—(301) 415-1292. Contact person for more information: Dave Gamberoni, (301) 415-1651.

* * * * *

ADDITIONAL INFORMATION: By a vote of 3-0 on July 6, the Commission determined pursuant to U.S.C. 552b(e) and 9.107(a) of the Commission's rules that “Affirmation of (1) Pacific Gas & Electric Co. (Diablo Canyon Power Plant, Units 1 and 2); Applicant's motion to terminate proceeding and Intervenor's motion to vacate, (2) Duke Energy Corp. (Catawba Nuclear Station, Units 1 and 2), Order on the Board's certified questions on admissibility of a security contention, and (3) Appointment of a Pre-License Application Presiding Officer (PAPO) for High Level Waste Repository Pre-License Application Phase” be held July 7, and on less than one week's notice to the public.

* * * * *

The NRC Commission Meeting Schedule can be found on the Internet at: http://www.nrc.gov/what-we-do/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, August Spector, at (301) 415-7080, TDD: (301) 415-2100, or by e-mail at aks@nrc.gov. Determinations on requests for reasonable accommodation will be made on a case-by-case basis.

* * * * *

This notice is distributed by mail to several hundred subscribers; if you no longer wish to receive it, or would like to be added to the distribution, please contact the Office of the Secretary, Washington, DC 20555 (301) 415-1969). In addition, distribution of this meeting notice over the Internet system is available. If you are interested in receiving this Commission meeting schedule electronically, please send an electronic message to dkw@nrc.gov.

Dated: July 8, 2004.
R. Michelle Schroll,
Office of the Secretary.

[FR Doc. 04-15893 Filed 7-9-04; 9:37 am]

BILLING CODE 7590-01-M